DEPARTMENT OF HOMELAND SECURITY

Federal Emergency Management Agency

Announcement of Performance Review Board Members

AGENCY: Federal Emergency Management Agency, Emergency Preparedness and Response Directorate, Department of Homeland Security.

ACTION: Notice.

SUMMARY: This notice announces the names of new members of the Emergency Preparedness and Response Directorate Performance Review Board.

FOR FURTHER INFORMATION CONTACT: Shirley Schell, Executive Resources Program Manager, Human Capital Division, 500 C Street, SW., Washington, DC 20742, 202-646-3297.

SUPPLEMENTARY INFORMATION: 5 U.S.C. 4314 (c)(4) requires agencies to publish notice of Performance Review Board appointees in the Federal Register before their service begins. The role of the Performance Review Board is to review and make recommendations to the appointing authority on performance management issues such as appraisals, pay adjustments, bonuses, and Presidential Rank Awards for members of the Senior Executive Service. Under Secretary Michael D. Brown has named the following members of the Emergency Preparedness and Response Directorate Performance Review Board:

Patricia Stahlschmidt, Director, Strategic Planning and Evaluation.

Thomas McQuillan, Program Advisor, Facilities Management Division.

Edward Kernan, Chief Information Policy and Resources Management.

David Trissell, Associate General Counsel.

Michael Hall, Acting Director, Human Capital Division.

Charlie Dickerson, Deputy Administrator, U.S. Fire Administration.

David Maurstad, Regional Director, Region VIII, Denver, CO.

Reynold Hoover, Director Office of National Security Coordination.

Dated: September 30, 2004.
Michael D. Brown,
Under Secretary, Emergency Preparedness and Response, Department of Homeland Security.

[FR Doc. 04-22364 Filed 10-4-04; 8:45 am]

BILLING CODE 9110-49-P